ENVIRONMENTAL PROTECTION AGENCY

40 CFR Part 52

[Region 2 Docket No. VI-5-265 W, FRL-7627-3]

An Exemption From Requirements of the Clean Air Act for the Territory of United States Virgin Islands; Withdrawal of Direct Final Rule

AGENCY: Environmental Protection Agency (EPA).

ACTION: Withdrawal of direct final rule.

SUMMARY: Due to receipt of an adverse comment, EPA is withdrawing the direct final rule which granted an exemption of the Clean Air Act (CAA) section 165(a) requirement to obtain a Prevention of Significant Deterioration (PSD) Permit to Construct. The direct final rule was published on December 31, 2003. As stated in the direct final rule, if adverse comments were received by January 30, 2004, a timely withdrawal would be published in the Federal Register. EPA subsequently received an adverse comment. EPA will address the comments in a subsequent final action based upon the proposed action also published on December 31, 2003 (68 FR 75786). EPA will not institute a second comment period on this action.

DATES: The direct final rule published at 68 FR 75782, December 31, 2003, is withdrawn on February 27, 2004.

FOR FURTHER INFORMATION CONTACT: Umesh Dholakia, Environmental Engineer, Air Programs Branch, Division of Environmental Protection and Planning, Environmental Protection Agency, Region 2 Office, 290 Broadway, 25th Floor, New York, New York 10007-1866, (212) 637-4023 or at Dholakia.Umesh@epa.gov.

List of Subjects in 40 CFR Part 69

Environmental protection, Air pollution control.

Authority: 42 U.S.C. 7625-1.

Dated: February 20, 2004.
Jane M. Kenny,
Regional Administrator, Region 2.

PART 69—[AMENDED]

Accordingly, the addition at 40 CFR 69.41(h), published on December 31, 2003 (68 FR 75782) is withdrawn as of February 27, 2004.

[FR Doc. 04-4386 Filed 2-26-04; 8:45 am]

BILLING CODE 6560-50-P